DEPARTMENT OF COMMERCE

International Trade Administration

[C-570-094]

Refillable Stainless Steel Kegs From the People's Republic of China; Rescission of Countervailing Duty Administrative Review; 2019

AGENCY: Enforcement and Compliance, International Trade Administration, Department of Commerce.

SUMMARY: The Department of Commerce (Commerce) is rescinding the first administrative review of the countervailing duty (CVD) order on refillable stainless steel kegs from the People's Republic of China (China) for the period of review (POR) December 13, 2019, through December 31, 2019, based on the timely withdrawal of the request for review.

DATES: Applicable April 21, 2021.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

Background

On December 2, 2020, Commerce published a notice of opportunity to request an administrative review of the CVD order on refillable stainless steel kegs from China for the POR December 13, 2019, through December 31, 2019.¹ In accordance with section 751(a) of the Tariff Act of 1930, as amended (the Act), and 19 CFR 351.213(b), Commerce received a timely-filed request for an administrative review from Ningbo Master International Trade Co., Ltd. (Ningbo Master.² Commerce received no other requests for administrative review.

¹ See Antidumping or Countervailing Duty Order, Finding, or Suspended Investigation; Opportunity to Request Administrative Review, 85 FR 77431 (December 2, 2020).

² See Ningbo Master's Letter, “Refillable Stainless Steel Kegs from the People's Republic of China—Request for Administrative Review,” dated December 31, 2020.

On February 4, 2021, pursuant to this request and in accordance with 19 CFR 351.221(c)(1)(i), Commerce published a notice initiating an administrative review of the CVD order on refillable stainless steel kegs from China with respect to Ningbo Master.³ On March 30, 2021, Ningbo Master withdrew its request for an administrative review.⁴

³ See Initiation of Antidumping and Countervailing Duty Administrative Reviews, 86 FR 8166 (February 4, 2021).

⁴ See Ningbo Master's Letter, “Refillable Stainless Steel Kegs from the People's Republic of China—Withdrawal of Request for Administrative Review,” dated March 30, 2021.

Rescission of Review

Pursuant to 19 CFR 351.213(d)(1), Commerce will rescind an administrative review, in whole or in part, if the party or parties that requested a review withdraws the request within 90 days of the publication date of the notice of initiation of the requested review. As noted above, Ningbo Master withdrew its request for review within 90 days of the publication date of the notice of initiation. No other parties requested an administrative review of the order. Therefore, in accordance with 19 CFR 351.213(d)(1), we are rescinding this in its entirety.

Assessment

Commerce intends to instruct U.S. Customs and Border Protection (CBP) to assess countervailing duties on all appropriate entries of refillable stainless steel kegs from China during the POR. Countervailing duties shall be assessed at rates equal to the cash deposit of estimated countervailing duties required at the time of entry, or withdrawal from warehouse, for consumption in accordance with 19 CFR 351.212(c)(1)(i). Commerce intends to issue appropriate assessment instructions to CBP no earlier than 35 days after the date of publication of this notice in the Federal Register.

Notification Regarding Administrative Protective Orders

This notice serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: April 16, 2021.
James Maeder,
Deputy Assistant Secretary for Antidumping and Countervailing Duty Operations.

[FR Doc. 2021-08243 Filed 4-20-21; 8:45 am]

BILLING CODE 3510-DS-P